Executive Order 13794 of April 28, 2017

Establishment of the American Technology Council

By the authority vested in me as President by the Constitution and the laws of the United States of America, it is hereby ordered as follows:

Section 1. Policy. It is the policy of the United States to promote the secure, efficient, and economical use of information technology to achieve its missions. Americans deserve better digital services from their Government. To effectuate this policy, the Federal Government must transform and modernize its information technology and how it uses and delivers digital services.

Sec. 2. Purpose. To promote the policy set forth in section 1 of this order, this order establishes the American Technology Council (ATC).

Sec. 3. ATC Establishment and Membership. The ATC is hereby established, with the following members:

(a) The President, who shall serve as Chairman;

(b) The Vice President;

(c) The Secretary of Defense;

(d) The Secretary of Commerce;

(e) The Secretary of Homeland Security;

(f) The Director of National Intelligence;

(g) The Director of the Office of Management and Budget (OMB);

(h) The Director of the Office of Science and Technology Policy;

(i) The U.S. Chief Technology Officer;

(j) The Administrator of General Services;

(k) The Senior Advisor to the President;

(l) The Assistant to the President for Intragovernmental and Technology Initiatives;

(m) The Assistant to the President for Strategic Initiatives;

(n) The Assistant to the President for National Security Affairs;

(o) The Assistant to the President for Homeland Security and Counterterrorism;

(p) The Administrator of the U.S. Digital Service;

(q) The Administrator of the Office of Electronic Government (Federal Chief Information Officer);

(r) The Commissioner of the Technology Transformation Service; and

(s) The Director of the American Technology Council (Director).

Sec. 4. Additional Invitees. The Director may invite the heads of agencies with key service delivery programs to attend meetings of the ATC on a rotating basis and may also invite the heads of those service delivery programs to attend. The President, or upon his direction, the Director, may also invite other officials of executive departments, agencies, and offices to attend meetings of the ATC from time to time.

Sec. 5. ATC Meetings. The President, or upon his direction, the Director, may convene meetings of the ATC. The President shall preside over the meetings. In the President's absence the Vice President shall preside, and in the Vice President's absence the Director shall preside.

Sec. 6. ATC Functions. (a) The principal functions of the ATC shall be to:

(i) coordinate the vision, strategy, and direction for the Federal Government's use of information technology and the delivery of services through information technology;

(ii) coordinate advice to the President related to policy decisions and processes regarding the Federal Government's use of information technology and the delivery of services through information technology; and

(iii) work to ensure that these decisions and processes are consistent with the policy set forth in section 1 of this order and that the policy is being effectively implemented.

(b) The functions of the ATC, as specified in subsection (a) of this section, shall not extend to any national security system, as defined in section 3552(b)(6) of title 44, United States Code.

(c) Nothing in this section shall be construed to impair or otherwise affect the authority of any agency or of OMB, including the authority of OMB to monitor implementation of Administration policies and programs and to develop and implement management policies for all agencies.

Sec. 7. ATC Administration. (a) The ATC may function through ad hoc committees, task forces, or interagency groups, each to be chaired by the Director or such official as the Director may, from time to time, designate. Such groups shall include a senior interagency forum for considering policy issues related to information technology, and a deputies committee to review and monitor the work of the ATC interagency forum and to ensure that issues brought before the ATC have been properly analyzed and prepared for decision.

(b) The ATC shall have a Director, who shall be an employee of the Executive Office of the President designated by the President.

(c) All agencies are encouraged to cooperate with the ATC and to provide such assistance, information, and advice to the ATC as the ATC may request, to the extent permitted by law.

(d) Consistent with the protection of sources and methods, the Director of National Intelligence is encouraged to provide access to classified information on cybersecurity threats, vulnerabilities, and mitigation procedures to the ATC in order to facilitate the ATC's activities.

Sec. 8. Termination. This order, and the ATC established hereunder, shall terminate on January 20, 2021.

Sec. 9. General Provisions. (a) Nothing in this order shall be construed to impair or otherwise affect:

(i) the authority granted by law to an executive department or agency, or the head thereof;

(ii) the functions of the Director of OMB relating to budgetary, administrative, or legislative proposals; or

(iii) the provisions of the Presidential Memorandum of March 19, 2015, entitled “Establishing the Director of White House Information Technology and the Executive Committee for Presidential Information Technology.”

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 28, 2017.

[FR Doc. 2017-09083

Filed 5-2-17; 11:15 am]

Billing code 3295-F7-P